DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Obligated Service for Mental Health Traineeships: Regulations (42 CFR part 62a) and Forms—(Extension, no change; OMB No. 0930-0074)—SAMHSA's Center for Mental Health Services (CMHS) awards grants to institutions for training instruction and traineeships in mental health and related disciplines. Prior to statutory change in 2000, graduate student recipients of these clinical traineeships were required to perform service, as determined by the Secretary to be appropriate in terms of the individual's training and experience, for a length of time equal to the period of support. The clinical trainees funded prior to implementation of the statutory change are required to submit SAMHSA Form SMA 111-2, which is an annual report on employment status and any changes in name and/or address, to SAMHSA. The information on this form is required to document that the trainee has completed their service obligation.

The annual burden estimate is provided below.

42 CFR Citation and Associated Forms | Number of Respondents | Responses/Respondent | Average Burden/Response (Hrs.) | Annual Burden (Hrs.)
64a.105(b)(2)—Annual Payback Activities Certification—SMA 111-2 | 79 | 1 | .18 | 14

Written comments and recommendations concerning the proposed information collection should be sent within 30 days of this notice to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: January 8, 2004.
Anna Marsh,
Acting Executive Officer, SAMHSA.

[FR Doc. 04-963 Filed 1-15-04; 8:45 am]

BILLING CODE 4162-20-P